DEPARTMENT OF THE INTERIOR

National Park Service

National Register of Historic Places; Notification of Pending Nominations

Nominations for the following properties being considered for listing in the National Register were received by the National Park Service before August 11, 2001. Pursuant to section 60.13 of 36 CFR part 60 written comments concerning the significance of these properties under the National Register criteria for evaluation may be forwarded to the National Register, National Park Service, 1849 C St. NW, NC400, Washington, DC 20240. Written comments should be submitted by October 17, 2001.

Carol D. Shull,
Keeper of the National Register Of Historic Places.

DELAWARE

Kent County

Durham—Shores House, (House and Garden in Central Delaware MPS) E side of DE 15, Dupont Station, 01001005

White—Warren Tenant House, (House and Garden in Central Delaware MPS) NE side of DE 261, Sandtown, 01001009

New Castle County

Grose, Robert, House, (House and Garden in Central Delaware MPS) 1000 Port Penn Rd., Port Penn, 01001006

DISTRICT OF COLUMBIA

District of Columbia

Downtown Historic District, Roughly, Seventh St. from Pennsylvania Ave. to Mt. Vernon Sq., and F St. bet. Eleventh and Seventh Sts., NW, Washington, 01001004

FLORIDA

Collier County

Everglades Laundry, 105 W. Broadway, Everglades City, 01001012

Palm Beach County

Historic Old Town Commercial District, Bounded by FEC, M St., Lucerne Ave., and 1st Ave. S, Lake Worth, 01001011

Seminole County

Browne—King House, 322 King St., Oviedo, 01001023

Estes, R.W. Celery Company Precooler Historic District, 159 N. Central Ave., Oviedo, 01001022

Nelson and Company Historic District, 110-166 E Broadway St. and 30-110 Station St., Oviedo, 01001010

Wheeler—Evans House, 340 S. Lake Jesup Ave., Oviedo, 01001024

IOWA

Muscatine County

Greenwood Cemetery Chapel, 1814 Lucas, Muscatine, 01001013

MICHIGAN

Calhoun County

Marshall Avenue Bridge, Marshall Ave. over Rice Cr., Marshall, 01001021

Crawford County

Douglas House, 6122 E Cty Rd. 612, Lovells Township, 01001017

Huron County

Smith—Culhane House, 8569 Lake St., Port Austin, 01001015

Ionia County

St. John the Baptist Catholic Church Complex, 324 S. Washington Ave., Hubbardston, 01001019

Iosco County

Five Channels Dam Archeological District, Address Restricted, Oscoda, 01001016

Kent County

Porter Hollow Embankment and Culvert, White Pine Strail at Stegman Creek, W of Summit Ave., Algoma Township, 01001018

Lenawee County

Keeney, John W. and Erena Alexander Rogers, Farm, 5300 Monroe, Franklin Township, 01001020

MONTANA

Missoula County

Eagle Guard Station, 11 mi. W of Townsend, Townsend, 01001014

NEW YORK

Essex County

Poke-O-Moonshine Mountain Fire Observation Station, (Fire Observation Stations of New York State Forest Preserve MPS) Poke-O-Moonshine Mountain, Chesterfield, 01001034

Franklin County

Azure Mountain Fire Observation Station, (Fire Observation Stations of New York State Forest Preserve MPS) Azure Mountain, Waverly, 01001036

Fulton County

Kane Mountain Fire Observation Station, (Fire Observation Stations of New York State Forest Preserve MPS) Kane Mountain, Caroga, 01001033

Hamilton County

Blue Mountain Fire Observation Station, (Fire Observation Stations of New York State Forest Preserve MPS) Blue Mountain, Indian Lake, 01001035

Snowy Mountain Fire Observation Station, (Fire Observation Stations of New York State Forest Preserve MPS) Snowy Mountain, Indian Lake, 01001031

Saratoga County

Hadley Mountain Fire Observation Station, (Fire Observation Stations of New York State Forest Preserve MPS) Hadley Mountain, Hadley, 01001037

St. Lawrence County

Arab Mountain Fire Observation Station, (Fire Observation Stations of New York State Forest Preserve MPS) Arab Mountain, Piercefield, 01001039

Ulster County

Balsam Lake Mountain Fire Observation Station, (Fire Observation Stations of New York State Forest Preserve MPS) Balsam Lake Mountain, Hardenburgh, 01001038

Mount Tremper Fire Observation Station, (Fire Observation Stations of New York State Forest Preserve MPS) Mount Tremper, Shandaken, 01001032

Red Hill Fire Observation Station, (Fire Observation Stations of New York State Forest Preserve MPS) Red Hill, Denning, 01001030

NORTH CAROLINA

Alamance County

Cates, Charles F. and Howard, Farm, 4870 Mebane Rogers Rd., Mebane, 01001025

Ashe County

Cooper, A.S., Farm, Cranberry Springs Rd., approx. 0.2 mi. SE of jct. with Todd RR Grade Rd., Brownwood, 01001028

Miller Homestead, 324 Miller Dr., Lansing, 01001029

Buncombe County

Engadine, US 19/23, 0.3 mi. E of Haywood, Chandler, 01001027

Cabarrus County

Meek House, NC 1624, 0.3 mi. NE of jct. with NC 1622, Kannapolis, 01001026

OHIO

Franklin County

Westminster Church, 77 S. 6th St., Columbus, 01001043

Mahoning County

Wick Park Historic District (Boundary Increase), Roughly bounded by Broadway Ave., Wick Ave., Madison Ave., and Elm St., Youngstown, 01001041

Richland County

Richland County Infirmary, 3220 Mansfield-Olivesburg Rd., Mansfield, 01001042

Washington County

Marietta Historic District (Boundary Decrease), Roughly bounded by the Muskingum and Ohio Rivers, and Warren, 3rd, 5th, and 6th Sts., Marietta, 01001040

WISCONSIN

Dane County

Fort Blue Mounds, Address Restricted, Blue Mounds, 01001044

A request for REMOVAL has been made for the following resource:

ALABAMA

Coosa County

Oakachoy Covered Bridge Over Oakachoy Cr. W of SR 259 Nixburg, 90000928

[FR Doc. 01-24633 Filed 10-1-01; 8:45 am]

BILLING CODE 4310-70-P